DEPARTMENT OF ENERGY

Federal Energy Regulatory Commission

[Docket No. RP00-333-001]

Crossroads Pipeline Company; Notice of Compliance Filing

August 15, 2001.

Take notice that on August 9, 2001, Crossroads Pipeline Company (Crossroads) tendered for filing as part of its FERC Gas Tariff, First Revised Volume No. 1, revised pro forma tariff sheets, listed in Appendix A to the filing, in compliance with Order Nos. 637 and 637-A.

Crossroads states that the filing is made to revise pro forma tariff sheets filed in Docket No. RP00-333-000 on June 15, 2000 in compliance with Order No. 637 et. al. Contemporaneous with this filing, Crossroads is filing a new tariff volume, First Revised Volume No. 1 superseding Original Volume No. 1, necessitating a need to revise Crossroad's June 15, 2000 filing in Docket No. RP00-333.

Crossroads states that copies of its filing have been mailed to all firm customers, interruptible customers, affected state commissions, and parties on the official service list in this proceeding.

Any person desiring to protest said filing should file a protest with the Federal Energy Regulatory Commission, 888 First Street, N.E., Washington, D.C. 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-20953 Filed 8-20-01; 8:45 am]

BILLING CODE 6717-01-P